DEPARTMENT OF THE INTERIOR

National Park Service

[NPS-WASO-NAGPRA-17039; PPWOCRADN0-PCU00RP14.R50000]

Notice of Inventory Completion for Native American Human Remains and Associated Funerary Objects in the Possession of the Department of Anthropology, San Francisco State University, San Francisco, CA; Correction

AGENCY: National Park Service, Interior.

ACTION: Notice; correction.

SUMMARY: The San Francisco State University NAGPRA Program has corrected an inventory of human remains and associated funerary objects, published in two Notices of Inventory Completion in the Federal Register on December 22, 2000 and September 28, 2012. This notice corrects the minimum number of individuals and the number of associated funerary objects. Lineal descendants or representatives of any Indian tribe or Native Hawaiian organization not identified in this notice that wish to request transfer of control of these human remains and associated funerary objects should submit a written request to the San Francisco State University NAGPRA Program. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary object should submit a written request with information in support of the request to the San Francisco State University NAGPRA Program at the address in this notice by December 17, 2014.

ADDRESSES: Jeffrey Boland Fentress, San Francisco State University NAGPRA Program, c/o Department of Anthropology, San Francisco State University, 1600 Holloway Ave., San Francisco, CA 94132, telephone (415) 338-3075, email fentress@sfsu.edu.

SUPPLEMENTARY INFORMATION: Notice is here given in accordance with the Native American Graves Protection and Repatriation Act (NAGPRA), 25 U.S.C. 3003, of the correction of an inventory of human remains and associated funerary objects under the control of the San Francisco State University NAGPRA Program, San Francisco, CA. The human remains and associated funerary objects were removed from sites Ca-Tuo-279, Ca-Tuo-300, and Ca-Tuo-314, in Tuolumne County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects published in a Notice of Inventory Completion in the Federal Register (65 FR 80957, December 22, 2000) and a Notice of Inventory Completion correction in the Federal Register (77 FR 59659-59660, September 28, 2012). This notice corrects the number of funerary objects for Ca-Tuo-279, the number of funerary objects for Ca-Tuo-300, and the minimum number of individuals and the number of funerary objects for Ca-Tuo-314, resulting from additional tribal consultation and ongoing collections work. Transfer of control of the items in this correction notice has not occurred.

Correction

In the Federal Register (77 FR 59659-59660, September 28, 2012), the entire notice is removed.

In the Federal Register (65 FR 80957, December 22, 2000), paragraph 4, is corrected by substituting the following paragraph:

In 1970-71, human remains representing nine individuals were recovered from CA-TUO-279, a site located on a small peninsula that extended into the western side of the original Don Pedro Reservoir. During the construction of the new reservoir, an archeological data recovery project was undertaken by San Francisco State University. The site area is now inundated by the new Don Pedro Reservoir. No known individuals were identified. The 94 individual and 3 lots of associated funerary objects are obsidian tools and debitage, chert tools and debitage, quartz crystals and flakes, ground stone tools, bone tools, olivella beads, a fused shale projectile point, historic material, a piece of red ochre, modified steatite and asbestos, a carbon sample, nut fragments, and unmodified faunal material.

In the Federal Register (65 FR 80957, December 22, 2000), paragraph 5, is corrected by substituting the following paragraph:

In 1970-71, human remains representing 37 individuals were recovered from Ca-Tuo-300, a site located near LaGrange, CA, during archeological excavations conducted by San Francisco State University. The site area is now inundated by the new Don Pedro Reservoir. No known individuals were identified. The 431 individual and 87 lots of associated funerary objects are obsidian tools and debitage, chert tools and debitage, basalt tools, slate tools, quartz crystals, ground stone tools, bone tools, olivella shell beads, haliotis pendants, a sandstone pendant, a tortoise core flake, historic material, steatite earplug, a steatite bowl fragment, a mineralized antler, red ochre, soil samples, unmodified shell, faunal, and lithics.

In the Federal Register (65 FR 80957, December 22, 2000), paragraph 6, is corrected by substituting the following paragraph:

In 1970-71, human remains representing 20 individuals were recovered from CA-TUO-314, a site located on the southern bank of Moccasin Creek, near LaGrange, CA, during archeological excavations conducted by San Francisco State University. No known individuals were identified. The 31 individual and 9 lots of associated funerary objects are Olivella beads, bone tool fragments, flaked stone debitage; ground stone; and faunal materials including modified and unmodified animal bones and teeth, and modified bird bone.

In the Federal Register (65 FR 80957, December 22, 2000), paragraph 8, is corrected by substituting the following paragraph:

Determinations Made by the San Francisco State University NAGPRA Program

Officials of the San Francisco State University NAGPRA Program have determined that:

• Pursuant to 25 U.S.C. 3001(9), the human remains described in this notice represent the physical remains of 66 individuals of Native American ancestry.

• Pursuant to 25 U.S.C. 3001(3)(A), the 655 objects described in this notice are reasonably believed to have been placed with or near individual human remains at the time of death or later as part of the death rite or ceremony.

• Pursuant to 25 U.S.C. 3001(2), there is a relationship of shared group identity that can be reasonably traced between the Native American human remains and associated funerary objects and the Tuolumne Band of Me-Wuk Indians of the Tuolumne Rancheria of California.

Additional Requestors and Disposition

Lineal descendants or representatives of any Indian tribe or Native Hawaiian organization not identified in this notice that wish to request transfer of control of these human remains and associated funerary objects should submit a written request with information in support of the request to Jeffrey Boland Fentress, San Francisco State University NAGPRA Program, c/o Department of Anthropology, San Francisco State University, 1600 Holloway Ave., San Francisco, CA 94132, telephone (415) 338-3075, email fentress@sfsu.edu, by December 17, 2014. After that date, if no additional requestors have come forward, transfer of control of the human remains and associated funerary objects to the Tuolumne Band of Me-Wuk Indians of the Tuolumne Rancheria of California may proceed.

The San Francisco State University NAGPRA Program is responsible for notifying the Tuolumne Band of Me-Wuk Indians of the Tuolumne Rancheria of California that this notice has been published.

Dated: October 25, 2014.
Melanie O'Brien,
Acting Manager, National NAGPRA Program.

[FR Doc. 2014-27153 Filed 11-14-14; 8:45 am]

BILLING CODE 4312-50-P